DEPARTMENT OF COMMERCE

National Oceanic and Atmospheric Administration

[I.D. 071003F]

Pacific Fishery Management Council; Public Meeting; Cancellation

AGENCY: National Marine Fisheries Service (NMFS), National Oceanic and Atmospheric Administration (NOAA), Commerce.

ACTION: Notice of cancellation of public meeting.

SUMMARY: The September 3-5, 2003, meeting of the Ad Hoc Groundfish Habitat Technical Review Committee to be held in Seattle, WA, that was scheduled for 1 p.m. to 6 p.m. on Wednesday, September 3, 2003; 8:30 a.m. to 6 p.m. on Thursday, September 4; and 8:30 to 3 p.m. on Friday, September 5, has been cancelled.

FOR FURTHER INFORMATION CONTACT: Mr. Steve Copps, Senior Policy Analyst, NOAA Fisheries, telephone: 206-526-6187.

SUPPLEMENTARY INFORMATION: The initial notice was published on July 17, 2003 (68 FR 42401). The meeting will be rescheduled for a later date and announced in the Federal Register. The purpose of the meeting was to consider the assessment of essential fish habitat for Pacific Coast groundfish in its entirety, including developments in the analytical framework and data consolidation.

Dated: August 6, 2003.
Richard W. Surdi,
Acting Director, Office of Sustainable Fisheries, National Marine Fisheries Service.

[FR Doc. 03-20514 Filed 8-11-03; 8:45 am]

BILLING CODE 3510-22-S